DEPARTMENT OF AGRICULTURE

Forest Service

Notice of Change to Title of Position Authorized to Sign Conveyance Documents for the Eastern Region

AGENCY: Forest Service, USDA.

ACTION: Notice.

SUMMARY: The former title of Lands and Minerals Program Leader, Eastern Region, has been changed to Director, Lands and Minerals, Eastern Region (Region 9). The Regional Forester approved this action on September 15, 2000. This notice serves to advise the public that under the new title of Director, Lands and Minerals, the incumbent has authorization to sign legal documents on behalf of the United States. This signing authority applies to all conveyance documents; that is, deeds and other legal instruments as specified in the Forest Service Manual (FSM) 5400.

FOR FURTHER INFORMATION CONTACT: Questions about this notice should be addressed to Carolyn Williams, Regional Realty Specialist, Forest Service, USDA, 310 West Wisconsin Avenue, Milwaukee, WI 53203; phone 414-297-3696.

Dated: September 15, 2000.
Paul M. Stockinger,
Director, Lands and Minerals, Eastern Region.

[FR Doc. 00-24507 Filed 9-22-00; 8:45 am]

BILLING CODE 3410-11-M